ENVIRONMENTAL PROTECTION AGENCY

[EPA-HQ-OAR-2004-0501; FRL-9983-76-OAR]

Proposed Information Collection Request; Comment Request; Information Collection Request for Green Power Partnership and Combined Heat and Power Partnership; EPA ICR Number 2173.07 (Renewal), OMB Control No. 2060-0578

AGENCY: Environmental Protection Agency (EPA).

ACTION: Notice.

SUMMARY: The Environmental Protection Agency is planning to submit an information collection request (ICR), “Information Collection Request for Green Power Partnership and Combined Heat and Power Partnership” (EPA ICR Number 2173.07 (Renewal), OMB Control No. 2060-0578) to the Office of Management and Budget (OMB) for review and approval in accordance with the Paperwork Reduction Act. Before doing so, EPA is soliciting public comments on specific aspects of the proposed information collection as described below. This is a proposed extension of the ICR, which is currently approved through March 31, 2019. An Agency may not conduct or sponsor and a person is not required to respond to a collection of information unless it displays a currently valid OMB control number.

DATES: Comments must be submitted on or before November 13, 2018.

ADDRESSES: Submit your comments, referencing Docket ID No. EPA-HQ-OAR-2004-0501, online using www.regulations.gov (our preferred method), by email to a-and-r-docket@epamail.epa.gov or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Christopher Kent, Climate Protection Partnerships Division, Office of Atmospheric Programs, MC 6202A Environmental Protection Agency, 1200 Pennsylvania Ave. NW, Washington, DC 20460; telephone number: 202-343-9046; fax number: 202-343-2208; email address: kent.christopher@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: In 2002, EPA's Energy Supply and Industry Branch (ESIB) launched two partnership programs with industry and other stakeholders: The Green Power Partnership (GPP) and the Combined Heat and Power Partnership (CHPP). These voluntary partnership programs, along with others in the ESIB, encourage organizations to invest in clean, efficient energy technologies, including renewable energy and combined heat and power. To continue to be successful, it is critical that EPA collect information from these program stakeholders to ensure these organizations are meeting their clean energy goals and to assure the credibility of these voluntary non-regulatory programs.

EPA has developed this ICR to obtain authorization to collect information from organizations participating in the GPP and CHPP, and other ESIB voluntary programs. Organizations that join these programs voluntarily agree to the following respective actions: (1) Designating a Green Power or CHP liaison and filling out a Partnership Agreement or Letter of Intent (LOI) respectively, (2) for the GPP, reporting to EPA, on an annual basis, their progress toward their green power commitment via a 3-page reporting form; (3) for the CHP Partnership, reporting to EPA information on their existing CHP projects, new project development, and other CHP-related activities via a one-page reporting form (for projects) or via an informal email or phone call (for other CHP-related activities). In addition to these actions, organizations may voluntarily apply for recognition to the programs' established annual recognition events, which require submitting additional information. EPA uses the data obtained from its Partners to assess the success of these programs in achieving their national energy and greenhouse gas (GHG) reduction goals. Partners are organizational entities that have volunteered to participate in either Partnership program.

Respondents/affected entities: Entities potentially affected by this action are company, institutional, and public-sector organizations that voluntarily participate in the EPA's Green Power Partnership (GPP) or Combined Heat and Power Partnership (CHPP). These include both service and goods providing industries, educational institutions and non-governmental organizations, commercial and industrial organizations, and local, state, or federal government agencies.

Forms: EPA-430-K-013, EPA-430-F-05-034; EPA-5900-353.

Respondent's obligation to respond: Voluntary.

Estimated number of respondents: 6,871 (total).

Frequency of response: Annually, on occasion, one time.

Total estimated burden: 6,598 hours (per year). Burden is defined at 5 CFR 1320.03(b).

Total estimated cost: $731,382 (per year), includes annualized capital or operation & maintenance costs.

Changes in estimates: There is minimal decrease in hours in the total estimated respondent burden compared with the ICR currently approved by OMB. Since the last ICR renewal, both the GPP and CHPP have introduced program efficiencies to reduce program burden and simplified collection forms into pre-populated spreadsheets or documents. As a result of these changes, the average number of hours per Partner has decreased from 3.2 hours to 2.87 hours, but the total hourly burden for Partners still increased because of an increase in the number of Partners. For perspective on the magnitude of Partner growth, the number of Partners at the end of 2008 was 1,308, whereas by year-end 2018 there was an estimated 1959 (GPP has 1546, and CHP has 413). The previous ICR also overestimated the growth of both programs and as such, the out year's number of respondents was larger than the program actually achieved. The GPP program is also re-evaluating program requirements which may have an impact on the number of respondents in the future. EPA will update the estimated respondent burden before submission to OMB for review.

Dated: September 4, 2018.
Carolyn Snyder,
Director, Climate Protection Partnership Division.

[FR Doc. 2018-20036 Filed 9-13-18; 8:45 am]

BILLING CODE 6560-50-P